SMALL BUSINESS ADMINISTRATION

[Disaster Declaration # 11169 and # 11170]

Arkansas Disaster Number AR-00015

AGENCY: U.S. Small Business Administration.

ACTION: Amendment 1.

SUMMARY: This is an amendment of the Presidential declaration of a major disaster for the State of ARKANSAS (FEMA—1744—DR), dated 02/08/2008.

Incident: Severe Storms, Tornadoes, and Flooding.

Incident Period: 02/05/2008 and continuing.

EFFECTIVE DATE: 02/11/2008.

Physical Loan Application Deadline Date: 04/08/2008.

EIDL Loan Application Deadline Date: 11/10/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Arkansas dated 02/08/2008 is hereby amended to include the following areas as adversely affected by the disaster:

Primary Counties: Conway, Izard, Randolph.

Contiguous Counties:

Arkansas: Clay, Greene, Perry.

Missouri: Ripley.

All other information in the original declaration remains unchanged.

(Catalog of Federal Domestic Assistance Numbers 59002 and 59008)

Herbert L. Mitchell,
Associate Administrator for Disaster Assistance.

[FR Doc. E8-3089 Filed 2-19-08; 8:45 am]

BILLING CODE 8025-01-P